DEPARTMENT OF THE INTERIOR

Minerals Management Service

Agency Information Collection Activities: Proposed Collection; Comment Request

AGENCY: Minerals Management Service (MMS), Interior.

ACTION: Notice of extension of an information collection (1010-0149).

SUMMARY: To comply with the Paperwork Reduction Act of 1995 (PRA), MMS is inviting comments on a collection of information that we will submit to the Office of Management and Budget (OMB) for review and approval. The information collection request (ICR) concerns the paperwork requirements in the rulemaking for 30 CFR 250, Subparts J, H, and I “Fixed and Floating Platforms and Structures.”

DATES: Submit written comments by October 12, 2004.

ADDRESSES: The ability to submit comments is now available through MMS's Public Connect on-line commenting system and is the preferred method for commenting. Interested parties may submit comments on-line at https://ocsconnect.mms.gov. From the Public Connect “Welcome” screen, you will be able to either search for Information Collection 1010-0149 or select it from the “Projects Open For Comment” menu.

Alternatively, interested parties may mail or hand-carry comments to the Department of the Interior; Minerals Management Service; Mail Stop 4024; 381 Elden Street; Herndon, Virginia 20170-4817; Attention: Rules Processing Team (RPT). Please reference “Information Collection 1010-0149” in your comments and include your name and return address. Note: We are no longer accepting comments sent via e-mail.

FOR FURTHER INFORMATION CONTACT: Cheryl Blundon, Rules Processing Team at (703) 787-1600. You may also contact Cheryl Blundon to obtain a copy, at no cost, of the regulations that require the subject collection of information.

SUPPLEMENTARY INFORMATION:

Title: 30 CFR 250, Subparts J, H, and I “Fixed and Floating Platforms and Structures.”

OMB Control Number: 1010-0149.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 43 U.S.C. 1356 requires the issuance of “* * * regulations which require that any vessel, rig, platform, or other vehicle or structure * * * (2) which is used for activities pursuant to this subchapter, comply * * * with such minimum standards of design, construction, alteration, and repair as the Secretary * * * establishes. * * *” Section 43 U.S.C. 1332(6) also states, “operations in the [O]uter Continental Shelf should be conducted in a safe manner * * * to prevent or minimize the likelihood of * * * physical obstruction to other users of the water or subsoil and seabed, or other occurrences which may cause damage to the environment or to property, or endanger life or health.” These authorities and responsibilities are among those delegated to the Minerals Management Service (MMS) to ensure that operations in the OCS will meet statutory requirements; provide for safety and protection of the environment; and result in diligent exploration, development, and production of OCS leases.

On December 27, 2001, a Notice of Proposed Rulemaking (NPR) (66 FR 66851), provided the initial 60-day review and comment process. This notice is a renewal of the information requirements for the rulemaking and for what we expect to be in our final rulemaking.

The industry standards incorporated into our regulations through this rulemaking:

• Result in a complete rewrite and re-titling of our current regulations at 30 CFR 250, Subpart I, Platforms and Structures. The currently approved information collection for this Subpart (1010-0058) will be superseded by this collection when final regulations take effect.

• Revise regulations at 30 CFR 250, Subpart H, Oil and Gas Production Safety Systems (1010-0059); and Subpart J, Pipelines and Pipeline Rights-of-Way (1010-0050). When final regulations take effect, we will add the new requirements and hour burdens to the respective information collections currently approved for these subparts.

• Make changes to definitions, documents incorporated by reference, and other minor revisions to regulations at 30 CFR 250, Subpart A, General (1010-0114); and Subpart B, Exploration and Development and Production Plans (1010-0049). However, the proposed changes do not add any new information collection requirements, nor affect those currently approved.

MMS will use the information collected and records maintained under Subpart I to determine the structural integrity of all offshore platforms and floating production facilities and to ensure that such integrity will be maintained throughout the useful life of these structures. The information is necessary to determine that fixed and floating platforms and structures are sound and safe for their intended purpose and for the safety of personnel and pollution prevention. MMS will use the information collected under Subparts H and J to ensure proper construction of production safety systems and pipelines.

Although the revised regulations would specifically cover floating production facilities as well as platforms, this is not a new category of information collection. MMS has always permitted these facilities on a case-by-case basis. Incorporating the new documents provides industry with specific standards by which we will hold them accountable in the design, fabrication, and installation of platforms and floating production facilities offshore. Making mandatory these now voluntary standards would dictate that respondents comply with the requirements in the incorporated documents. This includes certified verification agent (CVA) review for some areas that current regulations do not require, but the voluntary standards recommend. The revised regulations will increase the number of CVA nominations and reports associated with the facilities and require hazards analysis documentation for new floating production facilities.

We will protect information from respondents considered proprietary under the Freedom of Information Act (5 U.S.C. 552) and its implementing regulations (43 CFR Part 2) and under regulations at 30 CFR 250.196 (Data and information to be made available to the public). No items of a sensitive nature are collected. Responses are mandatory.

Frequency: On occasion, annual; and varies by section.

Estimated Number and Description of Respondents: Approximately 130 Federal OCS oil and gas or sulphur lessees.

Estimated Reporting and Recordkeeping “Hour” Burden: The currently approved annual reporting burden for this collection is 37,194 hours. The following chart details the individual components and respective hour burden estimates of this ICR. In calculating the burdens, we assumed that respondents perform certain requirements in the normal course of their activities. We consider these to be usual and customary and took that into account in estimating the burden.

Proposed rule section(s) | Reporting or recordkeeping requirement | Hour burden per response/record
New Subpart H Requirements
800(b) | Submit CVA documentation under API RP 2RD | 50 hours.
803(b)(2)(iii) | Submit CVA documentation API RP 17J | 50 hours.
Subpart I
900(a); 901(b); 902; 903; 905; 906; 907 | Submit application to install new platform or floating production facility or significant changes to approved applications, including use of alternative codes, rules, or standards; and Platform Verification Program plan for design, fabrication and installation of new, fixed, bottom-founded, pile-supported, or concrete-gravity platforms and new floating platforms. Consult as required with MMS and/or USCG. Re/Submit application for major modification(s) to any platform | 24 hours.
900(a)(4) | Notify MMS within 24 hours of damage and emergency repairs and request approval of repairs | 16 hours.
900(a)(5) | Submit application for conversion of the use of an existing mobile offshore drilling unit | 24 hours.
901(a)(6), (a)(7), (a)(8) | Submit CVA documentation under API RP 2RD, API RP 2SK, and API RP 2SM | 100 hours.
901(a)(10) | Submit hazards analysis documentation under API RP 14J | 500 hours.
904(c); 908 | Submit nomination and qualification statement for CVA | 16 hours.
910(c), (d) | Submit interim and final CVA reports and recommendations on design phase | 200 hours.
911(d), (e), (f) | Submit interim and final CVA reports and recommendations on fabrication phase, including notice of fabrication procedure changes or design specification modifications | 60 hours.
912(d), (e) | Submit interim and final CVA reports and recommendations on installation phase | 60 hours.
914; 918 | Record original and relevant material test results of all primary structural materials; retain records during all stages of construction. Compile, retain, and make available to MMS for the functional life of platform, the as-built drawings, design assumptions/analyses, summary of nondestructive examination records, and inspection results | 50 hours.
916 | Develop in-service inspection hours plan and submit annual (November 1 of each year) report on inspection of platforms or floating production facilities, including summary of testing results | 45 hours.
900 thru 918 | General departure and alternative compliance requests not specifically covered elsewhere in Subpart I regulations | 8 hours.
New Subpart J Requirements
1002(b)(4); 1007(a)(4) | Submit CVA documentation under API RP 17J | 100 hours.
1002(b)(5) | Submit CVA documentation under API RP 2RD | 50 hours.

Estimated Reporting and Recordkeeping “Non-Hour Cost” Burden: We have identified no cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: MMS's practice is to make comments, including names and addresses of respondents, available for public review during regular business hours. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Information Collection Clearance Officer: Arlene Bajusz (202) 208-7744.

Dated: August 4, 2004.
E.P. Danenberger,
Chief, Engineering and Operations Division.

[FR Doc. 04-18238 Filed 8-9-04; 8:45 am]

BILLING CODE 4310-MR-P